DEPARTMENT OF EDUCATION

[CFDA No. 84.341]

Community Technology Centers Program

AGENCY: Office of Vocational and Adult Education, Department of Education

ACTION: Notice inviting applications for new awards for fiscal year (FY) 2003 for novice applicants.

Purpose of Program: As authorized by Title V, Part D, Subpart 11, Section 5511-13 of the Elementary and Secondary Education Act of 1965 (ESEA), as amended by the No Child Left Behind Act (NCLB) of 2001, the purpose of the Community Technology Centers (CTC) program is to assist eligible applicants to create or expand community technology centers that will provide disadvantaged residents of economically distressed urban and rural communities with access to information technology and related training.

The CTC program novice applicant competition gives absolute priority to those applicants who will focus on improving the academic achievement of low-achieving secondary school students while continuing to provide a community technology center for all members of their community. Thus, grant recipients must meet this priority as they use grant funds to create or expand community technology centers that expand access to information technology and related training for disadvantaged residents of distressed urban or rural communities and evaluate the effectiveness of this project.

Eligible Applicants: Eligible applicants shall be an institution of higher education, a State educational agency, a local educational agency, an entity (such as a foundation, museum, library, for-profit business, public or private nonprofit organization, or community-based organization, including faith-based organizations), or consortia thereof, that also meet the definition of a “novice applicant,” as that term is defined in 34 CFR 75.225(a)(1) (see “Supplementary Information: Novice Applicants” for more information on this requirement). In addition, eligible applicants shall have the capacity to significantly expand access to computers and related services for disadvantaged residents of economically distressed urban and rural communities who would otherwise be denied such access.

SUPPLEMENTARY INFORMATION:

Novice Applicants

The Department encourages the participation of novice applicants in the Community Technology Centers program. Therefore, the Secretary has determined, under 34 CFR 75.225(c)(1), to give special consideration to novice applicants. As a result, up to 25 percent of available program funds will be reserved for grants to novice entities submitting high-quality applications.

This notice invites applications for the novice applicant competition of the FY 2003 CTC program. Notices inviting applications and establishing priorities, selection criteria, and program requirements for the general CTC competition for FY 2003—for which both novices and non-novices may apply—previously have been published in the Federal Register on June 3, 2003 (68 FR 33318-33323). A novice may apply under the general competition or under this novice competition. A novice may also file a separate application under each competition. If a novice does this, it must take care that each of the separate applications meets the particular requirements of the competition under which it is being submitted.

An applicant is considered a “novice applicant” if it meets the following definition taken from 34 CFR 75.225(a)(1):

The applicant must—

(i) Have never received a grant or subgrant under the Community Technology Centers program;

(ii) Have never been a member of a group application, submitted in accordance with 34 CFR 75.127-75.129, that received a grant under the Community Technology Centers program; and

(iii) Have not had an active discretionary grant from the Federal Government in the five (5) years before the deadline date for applications in this competition.

(34 CFR 75.225(a)(2) and (b) further interpret this definition in cases of group applications in this competition and specify that a grant is “active” until the end of the grant's project or funding period, including any extensions of those periods that extend the grantee's authority to obligate funds).

Applications Available: June 20, 2003.

Application Procedures

The Government Paperwork Elimination Act (GPEA) of 1998 (Public Law 105-277) and the Federal Financial Assistance Management Improvement Act of 1999 (Public Law 106-107) encourage us to undertake initiatives to improve our grant processes. Enhancing the ability of individuals and entities to conduct business with us electronically is a major part of our response to these Acts. Therefore, the Department is taking steps to adopt the Internet as our chief means of conducting transactions in order to improve services to our customers and to simplify and expedite our processes.

The Department is requiring that applications for the FY 2003 Community Technology Centers Program competitions for new awards be submitted electronically using e-APPLICATION through the U.S. Department of Education's e-GRANTS system. The e-GRANTS system is accessible through its portal page at http://e-grants.ed.gov.

Applicants who are unable to submit an application through the e-GRANTS systems may apply for a waiver to the electronic submission requirement. To apply for a waiver, applicants must explain the reason(s) that prevent(s) them from using the Internet to submit their applications. The reason(s) must be outlined in a letter addressed to: Gisela Harkin, U.S. Department of Education, Office of Vocational and Adult Education, 330 “C” Street, SW., Washington, DC., 20202-7100. Please mark your envelope “CTC competition waiver request.” The letter requesting the waiver is to be submitted no later than two (2) weeks before the deadline for transmittal of applications; last minute requests will not be considered.

Any application that receives a waiver to the electronic submission requirement will be given the same consideration in the review process as an electronic application.

Pilot Project for Electronic Submission of Applications

In FY 2003, the U.S. Department of Education is continuing to expand its pilot project of electronic submission of applications to include additional formula programs and additional discretionary grant competitions. The Community Technology Centers (CTC) program (CFDA 84.341) is one of the programs included in the pilot project. If you are an applicant under the CTC program, you must submit your application to us in electronic format or receive a waiver.

The pilot project involves the use of the Electronic Grant Application System (e-APPLICATION, formerly e-GAPS) portion of the Grant Administration and Payment System (GAPS). We shall continue to evaluate its success and solicit suggestions for improvement.

Please note the following:

—Do not wait until the deadline date for the transmittal of applications to submit your application electronically. If you wait until the deadline date to submit your application electronically and you are unable to access the e-Application system, you must contact the Help Desk by 4:30 p.m. EST on the deadline date.

—Keep in mind that e-APPLICATIONS is not operational 24 hours a day, 7 days a week. Click on “Hours of Web Site Operation” for specific hours of access during the week.

—You will have access to the e-APPLICATION Help Desk for technical support: 1 (888) 336-8930 (TTY: 1-[866] 697-2696, local [202] 401-8363). The Help Desk hours of operation are limited to 8 a.m.—6 p.m. EST Monday through Friday.

You must submit all documents electronically, including the Application for Federal Education Assistance (ED424), Budget Information—Non-Construction Programs (ED524), and assurances, certifications, and appendices, as appropriate.

—After you electronically submit your application, you will receive an acknowledgement, which will include a PR/Award number (an identifying number unique to your application).

—Within three (3) working days after submitting your electronic application, fax a signed copy of the Application for Federal Education Assistance (ED424) to the Application Control Center after following these steps: (1) Print the ED424 from the e-Application system. (2) The institution's Authorizing Representative must sign this form. (3) Place the PR/Award number in the upper right hand corner of the hard copy signature page of the ED424. (4) Fax the signed ED424 to the Application Control Center at (202) 260-1349.

—The Department may request that you give us original signatures on all other forms at a later date.

Closing Date Extension in Case of System Unavailability

If you are prevented from submitting an application on the closing date because the e-APPLICATION system is unavailable, we will grant you an extension of one (1) business day in order to transmit your application electronically, by mail, or by hand delivery.

For us to grant this extension:

(1) You must be a registered user of e-APPLICATION and have initiated an e-APPLICATION for this competition; and

(2) (a) The e-APPLICATION system must be unavailable for 60 minutes or more between the hours of 8:30 A.M. and 3:30 P.M. EST, on the deadline date; or (b) The e-APPLICATION system must be unavailable for any period of time during the last hours of operation (that is, for any period of time between 3:30 and 4:30 P.M. EST) on the deadline date. The Department must acknowledge and confirm these periods of unavailability before granting you an extension. To request this extension, you must contact the e-Grants Help Desk at 1 (888) 336-8930.

You may access the electronic grant application for CFDA No. 84.341 at http://e-grants.ed.gov.

Page limit: The application narrative (Part VI of the application) is where you, the applicant, address the selection criteria that reviewers use to evaluate your application. You must limit Part VI to the equivalent of no more than 25 pages, using the following standards:

• A “page” is 8.5″ x 11″ on one side only, with 1″ margins on the top, bottom, and both sides.

• Double space (no more than three lines per vertical inch) all text in the application narrative, including titles, headings, footnotes, quotations, references, and captions, as well as all text in charts, tables, figures, and graphs.

• Use a font that is either 12-point or larger or no smaller than 10 pitch (characters per inch).

In addition, you must limit Part VII (budget narrative) to four (4) pages and Part X (Appendices) to 15 pages, using the aforementioned standards. We will reject your application if:

• You apply these standards and exceed the page limit; or

• You apply other standards and exceed the equivalent of the page limit.

Deadline for Transmittal of Applications: July 21, 2003.

Deadline for Intergovernmental Review: September 18, 2003.

Estimated Available Funds: $8,106,250. Note: The Department is conducting a separate general competition for an estimated $24,318,750 in funds available for both novice and non-novice applicants. Notices pertaining to that competition were published in the Federal Register on June 3, 2003 (68 FR 33318-33323).

Range of Awards: $300,000-$500,000.

In previous grant competitions, applicants have routinely requested more money than the above award ranges dictate. As a result, plans submitted to the Department have included any number of activities that could only be made possible if an applicant received a funding amount much higher than intended in the award range. Based on this experience, the Department will fund only those applications that correctly request funds within the award range specified in this notice. Therefore, applicants who request more than $500,000 will be declared ineligible and will not receive funding.

Note: The size of awards will be based on a number of factors. These factors will include the scope, quality, and comprehensiveness of the proposed program, and the recommended range of awards indicated above.

Matching Requirement: Pursuant to Section 5512(c) of ESEA, as amended by NCLB, Federal funds may not pay for more than 50 percent of total project costs. In order to apply for and receive a grant award under this competition, each applicant must furnish from nonfederal sources at last 50 percent of its total project costs. Applicants may satisfy this requirement in cash or in kind, fairly evaluated, including services.

Note: The U.S. Department of Education is not bound by any estimates in this notice.

Project Period: 12 months.

Applicable Regulations: (a) The Education Department General Administrative Regulations (EDGAR) in 34 CFR parts 75, 77, 79, 80, 81, 82, 85, 86, 97, 98 and 99 and (b) the regulations in the notice of final priority, program requirements, and selection criteria for FY 2003 as published elsewhere in this issue of the Federal Register.

Priority: This competition gives an absolute priority to applicants that meet the conditions outlined in the Notice of Final Priority for this program, which is published elsewhere in this issue of the Federal Register.

FOR FURTHER INFORMATION CONTACT: If you need further assistance and need to speak with someone in the CTC program, you may contact Gisela Harkin by phone at (202) 205-4238, by mail at 330 C Street, SW., Room 4324, Washington, DC 20202, or via e-mail at commtech.center@ed.gov.

Individuals who use a telecommunications device for the deaf (TDD) may call the Federal Information Relay Service (FIRS) at 1-800-877-8339. Individuals with disabilities may obtain this notice in an alternative format (e.g., Braille, large print, audiotape, or computer diskette) on request to one of the contact persons listed in the preceding paragraph.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have any questions about using PDF, call the U.S. Government Printing Office (GPO); toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 7263-7263b.

Dated: June 17, 2003.
Carol D'Amico,
Assistant Secretary for Vocational and Adult Education.

[FR Doc. 03-15708 Filed 6-19-03; 8:45 am]

BILLING CODE 4000-01-P